FEDERAL COMMUNICATIONS COMMISSION

47 CFR Parts 5, 25, and 97

[IB Docket No. 02-54; FCC 04-130]

Mitigation of Orbital Debris

AGENCY: Federal Communications Commission.

ACTION: Final rule; announcement of effective date.

SUMMARY: Pursuant to the Paperwork Reduction Act of 1995, Public Law 104-13, the Federal Communications Commission received Office of Management and Budget (OMB) approval for the collection of orbital debris mitigation plans under 47 CFR 5.63(e), 25.114(d)(14), and 97.207(g) of the Commission's rules. Mitigation of Orbital Debris, IB Docket No. 02-54, OMB Control Number 3060-1013. An agency may not conduct or sponsor and a person is not required to respond to a collection of information unless it displays a currently valid control number.

DATES: Effective October 19, 2005.

FOR FURTHER INFORMATION CONTACT: Stephen Duall, Attorney Advisor, Satellite Division, International Bureau, at (202) 418-1103, or via the Internet at Stephen.Duall@fcc.gov.

SUPPLEMENTARY INFORMATION: The Federal Communications Commission has received OMB approval for the disclosures of orbital debris mitigation plans under 47 CFR 5.63(e), 25.114(d)(14), and 97.207(g) of the Commission's rules that were adopted in Mitigation of Orbital Debris, IB Docket No. 02-54, 69 FR 54581 (September 9, 2004). These rules require a satellite system operator requesting FCC space station authorization, or an entity requesting a Commission ruling for access to a non-U.S.-licensed space station under the Commission's satellite market access procedures, to submit an orbital debris mitigation plan to the Commission regarding spacecraft design and operation in connection with its request under parts 5, 25, and 97 of the Commission's rules. Through this document, the Commission confirms that it received OMB approval on April 13, 2005, OMB Control No. 3060-1013, and announces that the effective date of 47 CFR 5.63(e), 25.114(d)(14), and 97.207(g) is October 19, 2005.

Pursuant to the Paperwork Reduction Act of 1995, Public Law 104-13, an agency may not conduct or sponsor a collection of information unless it displays a currently valid control number. Notwithstanding any other provisions of law, no person shall be subject to any penalty for failing to comply with a collection of information subject to the Paperwork Reduction Act that does not display a valid control number. Questions concerning the OMB control number and expiration dates should be directed to Judith B. Herman at 202-418-0214, 445 12th Street, SW., Washington, DC 20554, or via the Internet at Judith-B.Herman@fcc.gov.

OMB Control No.: 3060-1013.

OMB Approval Date: 4/13/2005.

Expiration Date: 4/30/2008.

Title: Mitigation of Orbital Debris.

Form No.: N/A.

Estimated Annual Burden: 53 responses; 159 annual burden hours.

Needs and Uses: The Commission is revising this information collection to reflect the new and/or modified information collection requirements that resulted from the Second Report and Order, “In the Matter of Mitigation of Orbital Debris.” This Second Report and Order was released by the Commission on June 21, 2004. The Commission amended parts 5, 25, and 97 of the Commission's rules by adopting new rules concerning mitigation of orbital debris. Orbital debris consists of artificial objects orbiting the earth that are not functional spacecraft. Adoption of these rules will help preserve the United States' continued affordable access to space, the continued provision of reliable U.S. space-based services—including communications and remote sensing satellite services for U.S. commercial, government, and homeland security purposes—as well as the continued safety of persons and property in space and on the surface of the earth. Under the rules as amended today, a satellite system operator requesting FCC space station authorization, or an entity requesting a Commission ruling for access to a non-U.S.-licensed space station under the FCC's satellite market access procedures, must submit an orbital debris mitigation plan to the Commission regarding spacecraft design and operation in connection with its request. This Second Report and Order provides guidance for the preparation of such plans. Adoption of these rules will further the domestic policy objective of the United States to minimize the creation of orbital debris and is consistent with international policies and initiatives to achieve this goal. The information collection requirements accounted for in this collection are necessary to mitigate the potential harmful effects of orbital debris accumulation. Without such information collection requirements, the growth in the orbital debris may limit the usefulness of space for communications and other uses in the future by raising the costs and lowering the reliability of space-based systems.

Federal Communications Commission.
Marlene H. Dortch,
Secretary.

[FR Doc. 05-20446 Filed 10-11-05; 8:45 am]

BILLING CODE 6712-01-P